DEPARTMENT OF LABOR

Employment and Training Administration

[TA-W-62,248]

ArvinMeritor, Gabriel Ride Control Division, Including On-Site Leased Workers of Pinnacle Staffing, Chickasha, OK; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 11, 2007, applicable to workers of ArvinMeritor, Gabriel Ride Control Division, Chickasha, Oklahoma. The notice was published in the Federal Register on October 26, 2007 (72 FR 60910).

At the request of a company official, the Department reviewed the certification for workers of the subject firm. The workers are engaged in the production of chrome rods.

New information shows that leased workers of Pinnacle Staffing were employed on-site at the Chickasha, Oklahoma location of ArvinMeritor, Gabriel Ride Control Division. The Department has determined that these leased workers were engaged in on-site activities related to the production of chrome goods at ArvinMeritor, Gabriel Ride Control Division, Chickasha, Oklahoma.

Based on these findings, the Department is amending this certification to include leased workers of Pinnacle Staffing working on-site at the Chickasha, Oklahoma location of the subject firm.

The intent of the Department's certification is to include all workers employed at ArvinMeritor, Gabriel Ride Control Division, Chickasha, Oklahoma who were adversely-impacted by a shift in production of chrome rods to Mexico.

The amended notice applicable to TA-W-62,248 is hereby issued as follows:

All workers of ArvinMeritor, Gabriel Ride Control Division, including on-site leased workers of Pinnacle Staffing, Chickasha, Oklahoma, who became totally or partially separated from employment on or after October 3, 2006, through October 11, 2009, are eligible to apply for adjustment assistance under Section 223 of the Trade Act of 1974, and are also eligible to apply for alternative trade adjustment assistance under Section 246 of the Trade Act of 1974.

Signed at Washington, DC, this 7th day of November 2007.
Elliott S. Kushner,
Certifying Officer, Division of Trade Adjustment Assistance.

[FR Doc. E7-22322 Filed 11-14-07; 8:45 am]

BILLING CODE 4510-FN-P